DEPARTMENT OF TRANSPORTATION

Maritime Administration

Offer for Public Sale of Two High Speed Vessels

AGENCY: Maritime Administration (MARAD), Department of Transportation.

ACTION: Notice.

SUMMARY: MARAD is offering for public sale, on an “as is, where is” basis, two fast ferry vessels, ALAKAI, Official Number 1182234, and HUAKAI, Official Number 1215902.

DATES: Bids may be submitted on or before 5 p.m. July 20, 2011.

FOR FURTHER INFORMATION CONTACT: David Heller, Office of Shipyards and Marine Engineering, Maritime Administration, 1200 New Jersey Avenue, SE., Washington, DC 20590. Telephone: (202) 366-1850; or e-mail David.Heller@dot.gov. Copies of this notice may also be obtained from that office. An electronic copy of this document may be downloaded from the Federal Register's home page at: http://www.archives.gov and the Government Printing Office's database at: http://www.access.gpo.gov/nara.

SUPPLEMENTARY INFORMATION: The Maritime Administration (“MARAD”), an agency of the U.S. Department of Transportation, is offering for public sale, on an “as is, where is” basis, two fast ferry vessels, ALAKAI, Official Number 1182234, and HUAKAI, Official Number 1215902 (each a “Vessel” and collectively, the “Vessels”). MARAD will warrant title to the Vessels and convey title free and clear of all liens. The Vessels were previously owned by Hawaii Superferry LLC and MARAD has obtained title through foreclosure. The Vessels were built in Mobile, AL by Austal USA and are currently berthed at Lambert's Point Dock, Norfolk, VA. Specifications for the Vessels are set forth at the end of this notice (no guarantee or warranty as to specifications is made by MARAD).

All bids must contain specific information on the offer price, details of any financing for the purchase of the Vessels, timing of the closing of the proposed transaction, affidavit stating that the bidder is not affiliated with the former owner, Hawaii Superferry LLC, or any of its officers, directors or significant equity owners, and any contigencies that could affect the closing of the transaction. Bidders may be either U.S. citizens or foreign citizens. However, because the Vessels are U.S. flagged, any bidder who is a foreign citizen must be prepared to comply promptly with the provisions of 46 U.S.C. 56101 and MARAD's implementing regulations.

Responsive and successful bids should include the following components: (1) Purchase of both Vessels (MARAD only will consider an offer for sale of a single Vessel if concurrent sale of both Vessels to separate buyers can be arranged), (2) monthly reimbursement of any lay-up costs for the Vessels between the execution of a sale contract and closing of the sale, (3) purchase of the Vessels on an “as is, where is” basis with MARAD only required to warrant title to the Vessels and that they are free and clear of liens, and (4) cash sale or owner-procured financing (proposals with MARAD financing of the Vessels will not be considered).

The successful bidder will be required to submit a $500,000 deposit for each Vessel. Deposits must be made by wire transfer or in the form of a certified check, drawn on a U.S. bank and made payable to MARAD, within five business days of the bidder being advised that its bid is approved by the Maritime Administrator. The successful bid will be considered non-responsive if the bid deposit is not received in the required five business day time frame. The deposit is nonrefundable. No interest will be paid on the deposit. The successful bidder's deposit will be credited toward the bid offer. The successful bidder may not assign its right to the Vessel without consent of MARAD.

The successful bidder will be required to sign the MARAD form vessel sale contract that, among other provisions, incorporates all of the requirements set forth in this notice.

MARAD reserves the right to reject any and all bids and to seek additional bids from the bidders and any other interested parties. Arrangements to inspect the Vessel must be made through MARAD. All inspections will be at the bidder's own risk and expense. For additional information or to arrange an inspection, please contact Mr. David Heller at (202) 366-1850 or david.heller@dot.gov. Bids and affidavits must be submitted by overnight courier to the Maritime Administration, Office of Marine Financing, 1200 New Jersey Ave., SE., Room W23-432, Washington, DC 20590, Attention: Mr. Daniel Ladd, by 5 p.m. 30 days from date of publication of this notice.

ALAKAI
Hull:
Length | 321.2′.
Beam | 78.1′.
Height to Upper Deck | 30.8′.
Design Draft at Transit | 11.67′.
Passengers | 836′.
Vehicles | Cars 282 (max.) Trucks 28 forty-foot trucks (342 lane metres) with 65 cars.
Maximum Deadweight | 800 tonnes/882 tons.
Maximum Axle Loads | center lanes (dual axle load) 15.0 tonnes/16.5 tons; (single axle load) 12.0 tonnes/13.2 tons; side lanes (dual axle load) 12.0 tonnes/13.2 tons; (single axle load) 9.0 tonnes/9.9 tons; mezzanine lanes 1.0 tonnes/1.1 tons.
Fuel | 215,000 litres/56,800 gal.
Propulsion:
Main Engines | 4 × MTU 20V 8000 M70.
Gearboxes | 4 × ZF 53000−2.
Waterjets | 4 × Kamewa 125 S11.
Performance:
Speed | 35 knots 90% MCR 400 tons.
HUAKAI
Hull:
Length | 338.3′.
Beam | 78.1′.
Height to Upper Deck | 30.8′.
Design Draft at Transit | 11.67′.
Passengers | 836′.
Ramp | Stern Starboard Quartering.
Vehicles | Cars 282 (max.) Trucks 28 forty-foot trucks (342 lane metres) with 65 cars.
Maximum Deadweight | 800 tonnes/882 tons.
Maximum Axle Loads | center lanes (dual axle load) 15.0 tonnes/16.5 tons; (single axle load) 12.0 tonnes/13.2 tons; side lanes (dual axle load) 12.0 tonnes/13.2 tons; (single axle load) 9.0 tonnes/9.9 tons; mezzanine lanes 1.0 tonnes/1.1 tons.
Fuel | 215,000 litres/56,800 gal.
Propulsion:
Main Engines | 4 × MTU 20V 8000 M70.
Gearboxes | 4 × ZF 53000−2.
Waterjets | 4 × Kamewa 125 S11.
Performance:
Speed | 35 knots 90% MCR 400 tons.

By Order of the Maritime Administrator.
Dated: June 14, 2011.
Murray Bloom,
Acting Secretary, Maritime Administration.

[FR Doc. 2011-15147 Filed 6-17-11; 8:45 am]

BILLING CODE 4910-81-P